DEPARTMENT OF COMMERCE

National Oceanic and Atmospheric Administration

[Docket No.: 050121013-5013-01]

External Review of NOAA's Ecosystem Research and Science Enterprise

AGENCY: Office of Oceanic and Atmospheric Research (OAR), National Oceanic and Atmospheric Administration (NOAA), Department of Commerce.

ACTION: Notice of solicitation for members of a NOAA ecosystem research and science enterprise review panel.

SUMMARY: The Under Secretary of Commerce for Oceans and Atmosphere has requested the NOAA Science Advisory Board (SAB) to conduct an external review of NOAA's ecosystem research and science enterprise. The SAB is chartered under the Federal Advisory Committee Act and is the only Federal Advisory Committee with the responsibility to advise the Under Secretary on long- and short-range strategies for research, education, and application of science to resource management and environmental assessment and prediction. The SAB is forming an external panel to review and draft recommendations on the appropriateness of the mix of scientific activities conducted and/or sponsored by NOAA to its mission and on the organization of NOAA's ecosystem research and science enterprise.

Nominations to the panel are being solicited herein. The intent is to select from the nominees. However, the SAB retains the prerogative to name people to the review team that were not nominated if it deems it necessary to achieve the desired balance. Once selected, the SAB will post the review panel, with abridged resumes, at: http://www.sab.noaa.gov/Doc/Documents.html.

DATES: Nominations should be sent to the address specified and must be received by February 17, 2005.

ADDRESSES: Nominations should be submitted electronically to Dr. Michael Uhart (Michael.Uhart@noaa.gov) or mailed to Dr. Michael Uhart, Executive Director, SAB, NOAA, Rm. 11142, 1315 East-West Highway, Silver Spring, Maryland 20910.

FOR FURTHER INFORMATION CONTACT: Dr. Michael Uhart: (301) 713-9121, ext. 159.

SUPPLEMENTARY INFORMATION: Panel members shall not be employed or currently funded by NOAA. Nominations should describe the nominee's contact information and qualifications relative to the criteria given below, or include a resume. Anyone is eligible to nominate and self-nominations will be accepted. The external review team will have at least seven members with a variety of backgrounds (recognizing it will not be practical to have all backgrounds represented), with respect to:

1. Scientific disciplines of physical sciences, biological sciences (including fisheries science), and social sciences;

2. Experience in academia, within mission-oriented government agencies, Non-Governmental Organizations, and the private sector;

3. Familiarity with NOAA's mandates; and

4. Being a science provider to key generic groups of stakeholders, science interpreter to groups of stakeholders, science user, or stakeholder with a history of interaction with science providers.

The reviewers should have the following qualifications:

1. National and international recognition within their profession;

2. Knowledge of the scientific information needs to support NOAA's ecosystem stewardship missions, coupled with broad familiarity with NOAA's total mission;

3. Knowledge of, and experience with, the organization and management of complex mission-oriented scientific programs; and

4. No perceived or actual vested interest or conflict of interest that might undermine the credibility of the review.

It is of note that, except for qualification criteria 4, the criteria are not absolute requirements. The qualifications of individuals are expected to be outstanding enough with respect to one or more, but not necessarily all, of the criteria. Because of the limited size of the review panel, management organization expertise must include expertise on ecosystem science or the very special features of science applied to government decision-making.

The purpose of the review is to answer the following questions: (1) Is the mix of scientific activities conducted and/or sponsored by NOAA appropriate for its mission needs and (2) how should NOAA organize its ecosystem research and science enterprise? The framework for the review, including additional background, is posted at: http://www.sab.noaa.gov/Doc/Documents.html.

The review will be conducted and the final report presented to the SAB by November 2005. The review will involve up to three site visits, approximately five meetings and the drafting of the report of the panel's review.

Dated: January 21, 2005.
Louisa Koch,
Deputy Assistant Administrator, Office of Oceanic and Atmospheric Research, National Oceanic and Atmospheric Administration.

[FR Doc. 05-1480 Filed 1-26-05; 8:45 am]

BILLING CODE 3510-KD-P